DEPARTMENT OF TRANSPORTATION

National Highway Traffic Safety Administration

[Docket No. NHTSA 2005-21081; Notice 2]

Graco Children's Products Inc., Grant of Petition for Decision of Inconsequential Noncompliance

Graco Children's Products Inc. (Graco) has determined that certain child restraints that it produced in 2004 do not comply with S4.3(a) of 49 CFR 571.302, Federal Motor Vehicle Safety Standard (FMVSS) No. 302, “Flammability of interior materials.” Pursuant to 49 U.S.C. 30118(d) and 30120(h), Graco has petitioned for a determination that this noncompliance is inconsequential to motor vehicle safety and has filed an appropriate report pursuant to 49 CFR Part 573, “Defect and Noncompliance Reports.” Notice of receipt of a petition was published, with a 30-day comment period, on May 4, 2005, in the Federal Register (70 FR 23293). NHTSA received no comments.

Affected are a total of approximately 450 Graco Comfort Sport convertible child restraints manufactured on December 27, 2004. S4.3(a) of FMVSS No. 302 requires that material “shall not burn * * * at a rate of more than 102 mm per minute.” Two nylon warning labels which are a component of these child restraints do not comply with this requirement.

Graco explains that the seat pad used on the Comfort Sport model contains two warning labels sewn onto the backside of the seat pad. Graco states:

The pad is an Easy Wash pad with flaps that allow for easy removal of the seat pad without disconnecting the harness. The labels are sewn to the backside of the two flaps. The label is manufactured of nylon material and when tested as a single material does not meet the requirements of * * * S4.3(a) * * *.

Graco believes that the noncompliance is inconsequential to motor vehicle safety and that no corrective action is warranted. Graco states that the risk of injury from the noncompliance is inconsequential for several reasons:

Location of labels on backside of pad. The labels are located on the backside of the pad and directly behind a child seated in the child restraint. This location is not directly accessible to any flame source. * * * The contribution of the labels to any flame spread is negligible.

Small size of labels. The labels are relatively small compared to the overall size of the seat pad. * * * The size of each label is 1 3/16″ × 5½″ × 0.003″ thick.

Seat pad and child restraint materials comply with FMVSS No. 302. The labels are the only material * * * that do not comply with FMVSS No. 302. * * * This overwhelming amount of material that complies * * * affords the occupant(s) the necessary protection from any flammability hazard * * *.

Composite flammability testing complies. Although the label is not adhered to the pad at every point as specified by FMVSS No. 302 for composite testing, Graco has tested the labels in a composite * * * [and] it burns well within the accepted rate established by FMVSS No. 302.

Graco states that it is unaware of any complaints of a fire in this seat and consequently there has been no injury.

NHTSA agrees with Graco that the noncompliance is inconsequential to safety. As Graco states, the labels are small in size, on an absolute basis and relative to the amount of material that complies. The location of the labels on the backside of the pad is not directly accessible to any flame source. Although the label is not adhered to the pad at every point, it complies when tested for composite flammability. There have been no complaints of fire or fire-related injury in this seat. Graco has corrected the problem.

In consideration of the foregoing, NHTSA has decided that the petitioner has met its burden of persuasion that the noncompliance described is inconsequential to motor vehicle safety. Accordingly, Graco's petition is granted and the petitioner is exempted from the obligation of providing notification of, and a remedy for, the noncompliance.

(Authority: 49 U.S.C. 30118, 30120; delegations of authority at CFR 1.50 and 501.8)
Issued on: July 5, 2005.
Ronald L. Medford,
Senior Associate Administrator for Vehicle Safety.

[FR Doc. 05-13655 Filed 7-11-05; 8:45 am]

BILLING CODE 4910-59-P